ENVIRONMENTAL PROTECTION AGENCY

[FRL-9726-9]

Ambient Air Monitoring Reference and Equivalent Methods: Designation of a New Equivalent Method

AGENCY: Environmental Protection Agency.

ACTION: Notice of the designation of a new equivalent method for monitoring ambient air quality.

SUMMARY: Notice is hereby given that the Environmental Protection Agency (EPA) has designated, in accordance with 40 CFR part 53, a new equivalent method for measuring concentrations of PM2.5 in the ambient air.

FOR FURTHER INFORMATION CONTACT: Robert Vanderpool, Human Exposure and Atmospheric Sciences Division (MD-D205-03), National Exposure Research Laboratory, U.S. EPA, Research Triangle Park, North Carolina 27711. Email: Vanderpool.Robert@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference methods or equivalent methods (as applicable), thereby permitting their use under 40 CFR part 58 by States and other agencies for determining compliance with the NAAQSs.

The EPA hereby announces the designation of a new equivalent method for measuring pollutant concentrations of PM2.5 in the ambient air. This designation is made under the provisions of 40 CFR part 53, as amended on August 31, 2011 (76 FR 54326-54341).

The new equivalent method for PM2.5 is an automated monitoring method utilizing a measurement principle based on sample collection by filtration and analysis by beta-ray attenuation. The newly designated equivalent method is identified as follows:

EQPM-0812-203, “OPSIS SM200- Dust Monitor” configured for PM2.5 with the US EPA PM10 inlet specified in 40 CFR part 50 Appendix L, followed by a BGI Inc. Very Sharp Cut Cyclone (VSCC™) particle size separator, operated for a 24-hour continuous sample period at a total actual flow rate of 16.67 L/min. using 47mm PTFE membrane filters, a TS200 temperature stabilizer and software version 1.04.16 or later, in accordance with the OPSIS SM200 Dust Monitor Operation and Instruction Guide.”

The application for equivalent method determination for the PM2.5 method was received by the Office of Research and Development on June 21, 2011. This monitor is commercially available from the applicant OPSIS Inc., 150 N. Michigan Ave., Suite 1950, Chicago, IL 60601.

Test monitors representative of this method have been tested in accordance with the applicable test procedures specified in 40 CFR part 53, as amended on August 31, 2011. After reviewing the results of those tests and other information submitted in the application, EPA has determined, in accordance with Part 53, that this method should be designated as an equivalent method. The information in the application will be kept on file, either at EPA's National Exposure Research Laboratory, Research Triangle Park, North Carolina 27711 or in an approved archive storage facility, and will be available for inspection (with advance notice) to the extent consistent with 40 CFR part 2 (EPA's regulations implementing the Freedom of Information Act).

As a designated equivalent method, this method is acceptable for use by states and other air monitoring agencies under the requirements of 40 CFR part 58, Ambient Air Quality Surveillance. For such purposes, the method must be used in strict accordance with the operation or instruction manual associated with the method and subject to any specifications and limitations (e.g., configuration or operational settings) specified in the applicable designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008. Provisions concerning modification of such methods by users are specified under Section 2.8 (Modifications of Methods by Users) of Appendix C to 40 CFR part 58.

Consistent or repeated noncompliance should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR part 58. Questions concerning the commercial availability or technical aspects of the method should be directed to the applicant.

Jennifer Orme-Zavaleta,
Director, National Exposure Research Laboratory.

[FR Doc. 2012-22343 Filed 9-10-12; 8:45 am]

BILLING CODE 6560-50-P